DEPARTMENT OF VETERANS AFFAIRS

[OMB Control No. 2900-0578]

Agency Information Collection Activities Under OMB Review

AGENCY: Veterans Health Administration, Department of Veterans Affairs.

ACTION: Notice.

SUMMARY: In compliance with the Paperwork Reduction Act (PRA) of 1995 (44 U.S.C., 3501 et seq.), this notice announces that the Veterans Health Administration (VHA), Department of Veterans Affairs, has submitted the collection of information abstracted below to the Office of Management and Budget (OMB) for review and comment. The PRA submission describes the nature of the information collection and its expected cost and burden; it includes the actual data collection instrument.

DATES: Comments must be submitted on or before May 30, 2001.

For Further Information or a Copy of the Submission Contact: Denise McLamb, Information Management Service (045A4), Department of Veterans Affairs, 810 Vermont Avenue, NW., Washington, DC 20420, (202) 273-8030, FAX (202) 273-5981 or e-mail to: denise.mclamb@mail.va.gov. Please refer to “OMB Control No. 2900-0578.”

SUPPLEMENTARY INFORMATION: Title: Provision of Health Care to Vietnam Veterans' Children with Spina Bifida.

OMB Control Number: 2900-0578.

Type of Review: Reinstatement, without change, of a previously approved collection for which approval has expired.

Abstract: The information collected will be used to determine appropriate payment for medical care rendered to Vietnam veterans' children with spina bifida. Without the information, VA will be unable to determine the correct amount to reimburse providers for their services.

An agency may not conduct or sponsor, and a person is not required to respond to a collection of information unless it displays a currently valid OMB control number. The Federal Register Notice with a 60-day comment period soliciting comments on this collection of information was published on January 11, 2001, at pages 2480-2481.

Affected Public: Individuals or households and Business or Other For-Profit.

Estimated Annual Burden: 1,584 hours.

Estimated Average Burden Per Respondent: 8 minutes.

Frequency of Response: On occasion.

Estimated Number of Respondents: 12,000.

Send comments and recommendations concerning any aspect of the information collection to VA's OMB Desk Officer, OMB Human Resources and Housing Branch, New Executive Office Building, Room 10235, Washington, DC 20503, (202) 395-7316. Please refer to “OMB Control No. 2900-0578” in any correspondence.

Dated: April 20, 2001.
By direction of the Secretary.
Donald L. Neilson,
Director, Information Management Service.

[FR Doc. 01-10681 Filed 4-27-01; 8:45 am]

BILLING CODE 8320-01-P